DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with changes of its Generic Clearance for Questionnaire Testing, Evaluation, and Research, OMB Control Number 1905-0186. EIA-882T, Generic Clearance for Questionnaire Testing, Evaluation, and Research, provides EIA with the authority to utilize qualitative and quantitative methodologies to pretest questionnaires and validate the quality of data collected on EIA's surveys. EIA uses EIA-882T to meet its obligation to publish, and otherwise make available independent, high-quality statistical data to federal government agencies, state and local governments, the energy industry, researchers, and the general public.

DATES: Comments on this information collection must be received no later than February 17, 2022. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Gerson Morales, U.S. Energy Information Administration, telephone (202) 586-7077, or by email at Gerson.Morales@eia.gov.

SUPPLEMENTARY INFORMATION: This information collection request contains:

(1) OMB No.: 1905-0186;

(2) Information Collection Request Title: Generic Clearance for Questionnaire Testing, Evaluation, and Research;

(3) Type of Request: Three-year extension with changes;

(4) Purpose: The U.S. Energy Information Administration (EIA) is requesting a three-year approval from the Office of Management and Budget (OMB) to utilize qualitative and quantitative methodologies to pretest questionnaires and validate the quality of the data that is collected on EIA and DOE survey forms. Through the use of these methodologies, EIA will conduct research studies to improve the quality of energy data being collected, reduce or minimize survey respondent burden, and increase agency efficiency. This authority would also allow EIA to improve data collection in order to meet the needs of EIA's customers while also staying current in the evolving nature of the energy industry.

The specific methods proposed for the coverage by this clearance are described below. Also outlined is the legal authority for these voluntary information gathering activities.

The following methods are proposed:

Pilot Surveys. Pilot surveys conducted under this clearance will generally be methodological studies, and will always employ statistically representative samples. The pilot surveys will replicate all components of the methodological design, sampling procedures (where possible), and questionnaires of the full scale survey. Pilot surveys will normally be utilized when EIA undertakes a complete redesign of a particular data collection methodology or when EIA undertakes data collection in new energy areas, such as HGL production, alternative fueled motor vehicles, and other emerging areas of the energy sector where data collection would provide utility to EIA.

Cognitive Interviews. Cognitive interviews are typically one-on-one interviews in which the respondent is usually asked to “think aloud” or is asked “retrospective questions” as he or she answers questions, reads survey materials, defines terminology, or completes other activities as part of a typical survey process. A number of different techniques may be involved including, asking respondents what specific words or phrases mean or asking respondents probing questions to determine how they estimate, calculate, or determine specific data elements on a survey. The objectives of these cognitive interviews are to identify problems of ambiguity or misunderstanding, examine the process that respondents follow for reporting information, assess survey respondents' ability to report new information, or identify other difficulties respondents have answering survey questions in order to reduce measurement error from estimates based on a survey.

Respondent Debriefings. Respondent debriefings conducted under this clearance will generally be methodological or cognitive research studies. The debriefing form is administered after a respondent completes a questionnaire either in paper format, electronically, or through in-person interviews. The debriefings contain probing questions to determine how respondents interpret the survey questions, how much time and effort was spent completing the questionnaire, and whether they have problems in completing the survey/questionnaire. Respondent debriefings also are useful in determining potential issues with data quality and in estimating respondent burden.

Usability Testing. Usability tests are similar to cognitive interviews in which a respondent is typically asked to “think aloud” or asked “retrospective questions” as he or she reviews an electronic questionnaire, website, visual aid, or hard copy survey form. The objective of usability testing is to check that respondents can easily and intuitively navigate electronic survey collection programs, websites, and other survey instruments to submit their data to EIA.

Focus Groups. Focus groups, in person, online, or by phone, involve group sessions guided by a moderator who follows a topic guide containing questions or subjects focused on a particular issue rather than adhering to a standardized cognitive interview protocol. Focus groups are useful for exploring issues concerning the design of a form and the meaning of terms from a specific group of respondents, data users, or other stakeholders of EIA data. Focus groups may also be used to explore respondents' general opinions about data collection technologies or survey materials other than questionnaires.

(4a) Changes to Information Collection: EIA proposes to add several other methodologies or techniques to improve survey design, pretest questionnaires and validate the quality of the data that is collected on EIA and DOE survey forms.

Field Techniques. Field techniques described in survey research and survey methodology literature will be employed as appropriate. These include follow-up probing, memory cue tasks, paraphrasing, confidence rating, response latency measurements, free and dimensional sort classification tasks, and vignette classifications. The objective of all of these techniques is to aid in the development of surveys that work with respondents' thought processes, thus reducing response error and burden. These techniques have also proven useful for studying and revising pre-existing questionnaires.

Behavior Coding. Behavior coding is a quantitative technique in which a standard set of codes is systematically applied to respondent/interviewer interactions in interviewer-administered surveys or respondent/questionnaire interactions in self-administered surveys. The advantage of this technique is that it can identify and quantify problems with the wording or ordering of questions, but the disadvantage is that it does not necessarily illuminate the underlying causes.

Split Panel Test. Split panel tests refer to controlled experimental testing of alternative hypotheses. Thus, they allow one to choose from among competing questions, questionnaires, definitions, error messages or survey improvement methodologies with greater confidence than any of the other methods. Split panel tests conducted during the fielding of the survey are superior in that they can support both internal validity (controlled comparisons of the variable(s) under investigation) and external validity (represent the population under study). Most of the previously mentioned survey improvement methods can be strengthened when teamed with this method.

Research reports, research publications, peer-reviewed journal articles, peer-reviewed book chapters, and informational white papers: From the collected data, EIA will have the ability to write research papers, research publications, peer-reviewed journal articles, peer-reviewed book chapters, and informational white papers. Summarized results may be released or discussed as experimental research in the types of publications. However, the information collected from these methodologies will not be released as official statistics and will explicitly note the experimental nature of the information.

Professional conferences: EIA may present data collected from this research at various professional conferences. Professional conferences provide great opportunities to communicate EIA's research to the broader energy, statistical and survey methodology communities and get feedback on completed research. This will help innovate not only EIA's research and survey practices, but also that of these broader communities.

Audio and Video Recordings: For qualitative interviews, EIA will ask potential respondents if they would be willing to be audio or video recorded. If potential respondents agree, EIA will provide them with an informed consent form, which respondents will sign to signify compliance. A copy of the signed consent will be given to the potential respondents and kept on file at EIA. Audio or video recording will only be used for data analysis, and only those researchers at EIA that are involved in the research will have access to these recordings. If potential respondents are not willing to be audio/video recorded, interviewer will bypass recording and take notes.

(5) Annual Estimated Number of Respondents: 7,500;

(6) Annual Estimated Number of Total Responses: 7,500;

(7) Annual Estimated Number of Burden Hours: 7,500.

Statutory Authority: 15 U.S.C. 772(b), 42 U.S.C. 7101 et seq.

Signed in Washington, DC, on January 11, 2022.
Samson A. Adeshiyan,
Director, Office of Statistical Methods and Research, U.S. Energy Information Administration.

[FR Doc. 2022-00736 Filed 1-14-22; 8:45 am]

BILLING CODE 6450-01-P